ENVIRONMENTAL PROTECTION AGENCY

[FRL-6856-8]

Notice of Proposed Settlement; Ware Shoals Dyeing and Printing Superfund Site; Ware Shoals, Greenwood County, South Carolina

AGENCY: Environmental Protection Agency.

ACTION: Notice of proposed settlement.

SUMMARY: Under the Comprehensive Environmental Response, Compensation and Liability Act (CERCLA), the United States Environmental Protection Agency (EPA) proposes to enter into a “prospective purchaser agreement” (PPA) concerning property owned by the Ware Shoals Power and Water, Inc. (WSPW), in Greenwood County, South Carolina. EPA proposes to enter into the PPA with the Town of Ware Shoals. The PPA concerns the acquisition by the Town of Ware Shoals of certain real property presently owned by the WSPW in Ware Shoals, Greenwood County, South Carolina.

The real property in question consists of a 27 acre tract located at 12 Mill Street, East Main Street and Honea Path Street, Ware Shoals, Greenwood County, South Carolina. The Property is the subject of an Agreement to transfer the property from WSPW to the Town of Ware Shoals. Pursuant to the PPA, the Settling Respondent agrees to conduct further environmental assessment at the Site pursuant to a Voluntary Contract with the South Carolina Department of Health and Environmental Control. The PPA will also settle and resolve, subject to reservations and limitations contained in the PPA, the potential liability of the Settling Respondent for the Existing Contamination as defined in the PPA at the Property which may otherwise result from Settling Respondent becoming the owner of the property. The Town of Ware Shoals will be protected from CERCLA liability for past costs which may arise from their participation in the acquisition of the Property, as described above.

EPA will consider public comments on the proposed settlement for thirty (30) days. EPA may withdraw from or modify the proposed settlement should public comments disclose facts or considerations which indicate the proposed settlement is inappropriate, improper or inadequate.

Copies of the proposed settlement are available from: Ms. Paula V. Batchelor, Waste Management Division, U.S. EPA, Region 4, Atlanta Federal Center, 61 Forsyth Street, SW., Atlanta, Georgia 30303-8909, 404/562-8887.

Written comments may be submitted to Ms. Batchelor within thirty (30) calendar days of the date of publication.

Dated: August 3, 2000.
Franklin E. Hill,
Chief, CERCLA Program Services Branch, Waste Management Division.

[FR Doc. 00-21528 Filed 8-22-00; 8:45 am]

BILLING CODE 6560-50-P